DEPARTMENT OF DEFENSE

Department of the Air Force

Notice of Intent To Grant a Partially Exclusive Patent License

AGENCY: Department of the Air Force, Department of Defense.

ACTION: Notice of intent.

SUMMARY: Pursuant to the Bayh-Dole Act and implementing regulations, the Department of the Air Force hereby gives notice of its intent to grant a partially exclusive, the field to include foreign object debris detection on paved surfaces, patent license to Airtrek Robotics, Inc. having a place of business at 2900 Reading Road, Cincinnati, OH 45206.

DATES: Written objections must be filed no later than fifteen (15) calendar days after the date of publication of this notice.

ADDRESSES: Submit objections to Ryan Toner, AFRL/RI, 525 Brooks Road, Rome, New York 13441; Email: afrl.ri.techtransfer@us.af.mil. Include Docket No. 25-RI-L-02 in the subject line of the message.

FOR FURTHER INFORMATION CONTACT: Ryan Toner, AFRL/RI, 525 Brooks Road, Rome, New York 13441; Email: afrl.ri.techtransfer@us.af.mil.

SUPPLEMENTARY INFORMATION:

Abstract of patent application(s): A framework for estimating image interpretability degradation associated with image compression is provided. An image compression broker system can determine an image compression setting to achieve an interpretability task in accordance with available communication bandwidth or transmission time objectives. Estimating image interpretability degradation includes detecting edge points of an uncompressed image and determining gradients corresponding to the detected edge points; compressing in accordance with a compression parameter setting the uncompressed image to generate a compressed image and determining gradients corresponding to the edge points in the compressed image; determining from the gradients associated with the edge points gradient ratios; and estimating from the gradient ratios an image interpretability loss of the compressed image.

Intellectual property: U.S. Patent No. 10,827,190, issued on 03 November 2020, and entitled “Image Compression Selection Based On Interpretability Loss Estimation.”

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

(Authority: 35 U.S.C. 209; 37 CFR part 404.)

Crystle C. Poge,
Air Force Federal Register Liaison Officer.

[FR Doc. 2026-02596 Filed 2-9-26; 8:45 am]

BILLING CODE 3911-44-P